INTERNATIONAL TRADE COMMISSION

[Investigation No. 731-TA-1105 (Second Review)]

Lemon Juice From Argentina

Determination

On the basis of the record ¹ developed in the subject five-year review, the United States International Trade Commission (“Commission”) determines, pursuant to the Tariff Act of 1930 (“the Act”), that termination of the suspended investigation on lemon juice from Argentina would be likely to lead to continuation or recurrence of material injury to an industry in the United States within a reasonably foreseeable time.²

¹ The record is defined in § 207.2(f) of the Commission's Rules of Practice and Procedure (19 CFR 207.2(f)).

² Commissioner Amy A. Karpel not participating.

Background

The Commission instituted this review on September 1, 2021 (86 FR 49054) and determined on December 6, 2021 that it would conduct a full review (86 FR 71916, December 20, 2021). Notice of the scheduling of the Commission's review and of a public hearing to be held in connection therewith was given by posting copies of the notice in the Office of the Secretary, U.S. International Trade Commission, Washington, DC, and by publishing the notice in the Federal Register on March 25, 2022 (87 FR 17103). The Commission conducted its hearing on July 6, 2022. All persons who requested the opportunity were permitted to participate.

The Commission made this determination pursuant to section 751(c) of the Act (19 U.S.C. 1675(c)). It completed and filed its determination in this review on August 29, 2022. The views of the Commission are contained in USITC Publication 5344 (August 2022), entitled Lemon Juice from Argentina: Investigation No. 731-TA-1105 (Second Review).

By order of the Commission.
Issued: August 29, 2022.
Katherine Hiner,
Acting Secretary to the Commission.

[FR Doc. 2022-18997 Filed 9-1-22; 8:45 am]

BILLING CODE 7020-02-P